DEPARTMENT OF COMMERCE

International Trade Administration

Initiation of Antidumping and Countervailing Duty Administrative Reviews; Correction

AGENCY: Enforcement and Compliance, International Trade Administration, Department of Commerce.

ACTION: Notice; correction.

SUMMARY: The Department of Commerce (Commerce) published a document in the Federal Register of March 4, 2021, in which it initiated administrative reviews of antidumping duty (AD) and countervailing duty (CVD) orders and findings with January anniversary dates. That document was missing information regarding the AD administrative review of wooden bedroom furniture from the People's Republic of China (China). We are including the missing information in this correction notice.

FOR FURTHER INFORMATION CONTACT: Thomas Hanna, AD/CVD Operations, Office IV, Enforcement & Compliance, International Trade Administration, Department of Commerce, 1401 Constitution Avenue NW, Washington, DC 20230; telephone: (202) 482-0835.

SUPPLEMENTARY INFORMATION:

Corrections

In the Federal Register of March 4, 2021, in FR Doc. 2021-04479,¹ on page 12600, in the second column, after the “Respondent Selection” section, Commerce should have included information regarding the AD administrative review of wooden bedroom furniture from China under the caption “Respondent Selection—Wooden Bedroom Furniture from the People's Republic of China.” We have included the necessary information below:

¹ See Initiation of Antidumping and Countervailing Duty Administrative Reviews, 86 FR 12599 (March 4, 2021) (Initiation Notice).

Respondent Selection—Wooden Bedroom Furniture From the People's Republic of China

In the event that Commerce limits the number of respondents for individual examination in the AD administrative review of wooden bedroom furniture from China, for the purposes of this segment of the proceeding, i.e., the 2020 review period, Commerce intends to select respondents based on volume data contained in responses to a quantity and value (Q&V) questionnaire. All parties are hereby notified that they must timely respond to the Q&V questionnaire. Commerce's Q&V questionnaire along with certain additional questions will be available in a document package on Commerce's website at https://enforcement.trade.gov/download/prc-wbf/index.html on the date that this correction notice is published in the Federal Register. Responses to the Q&V questionnaire and the additional questions must be received by Commerce by no later than 30 days after the date of publication of this correction notice in the Federal Register. Please be advised that due to the time constraints imposed by the statutory and regulatory deadlines for AD administrative reviews, Commerce does not intend to grant any extensions for the submission of responses to the Q&V questionnaire.

In the Federal Register of March 4, 2021, in FR Doc. 2021-04479, on pages 12600-12601, in the “Separate Rates” section, Commerce should have included information regarding the AD administrative review of wooden bedroom furniture from China. We have included the necessary information below:

Separate Rates

All firms that wish to qualify for separate-rate status in the AD administrative review of wooden bedroom furniture from China must complete, as appropriate, either a separate rate certification or a separate rate application and respond to the additional questions and the Q&V questionnaire on Commerce's website at https://enforcement.trade.gov/download/prc-wbf/index.html. The separate rate certification and separate rate application forms are available on Commerce's website at https://enforcement.trade.gov/nme/nme-sep-rate.html. For additional information regarding separate rates, the separate rate certification, and the separate rate application, see the Initiation Notice. Separate rate certifications and separate rate applications are due to Commerce no later than 30 calendar days after publication of this correction notice in the Federal Register.

Furthermore, this correction notice constitutes public notification to all firms for which an AD administrative review of wooden bedroom furniture from China has been requested, and that are seeking separate rate status in the review, that they must submit a timely separate rate application or separate rate certification, as appropriate, as described above, and a timely response to the Q&V questionnaire and the additional questions in the document package on Commerce's website in order to receive consideration for separate-rate status. In other words, Commerce will not give consideration to any timely separate rate certification or separate rate application made by parties who failed to respond in a timely manner to the Q&V questionnaire and the additional questions. All information submitted by respondents in the AD administrative review of wooden bedroom furniture from China is subject to verification. As noted above, the Q&V questionnaire and the additional questions will be available on Commerce's website on the date of publication of this correction notice in the Federal Register.

Dated: April 6, 2021.
James Maeder,
Deputy Assistant Secretary for Antidumping and Countervailing Duty Operations.

[FR Doc. 2021-07376 Filed 4-9-21; 8:45 am]

BILLING CODE 3510-DS-P